DEPARTMENT OF THE INTERIOR

National Park Service

[NPS-WASO-NRNHL-DTS#-35463; PPWOCRADI0, PCU00RP14.R50000]

National Register of Historic Places; Notification of Pending Nominations and Related Actions

AGENCY: National Park Service, Interior.

ACTION: Notice.

SUMMARY: The National Park Service is soliciting electronic comments on the significance of properties nominated before March 4, 2023, for listing or related actions in the National Register of Historic Places.

DATES: Comments should be submitted electronically by April 4, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 4, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

Key: State, County, Property Name, Multiple Name (if applicable), Address/Boundary, City, Vicinity, Reference Number.

FLORIDA

Sarasota County

Manasota Beach Club Historic District, 7660 Manasota Key Rd., Englewood vicinity, SG100008818

MARYLAND

Baltimore Independent City

Jackson, Lillie Carroll, House (Civil Rights in Baltimore, Maryland, 1831-1976 MPS), 1320 Eutaw Pl., Baltimore, MP100008816

MICHIGAN

Oakland County

Grace, John, School, 21030 Indian St., Southfield, SG100008828

Wayne County

Saint Matthew Parish, 6021 Whittier Ave., Detroit, SG100008814

OHIO

Cuyahoga County

Cleveland Jewish Center-Cory United Methodist Church (Twentieth-Century African American Civil Rights Movement in Ohio MPS), 1117 East 105th St., Cleveland, MP100008829

Guernsey County

Scott, Matthew, House, 210 Fair Ave., Fairview, SG100008837

UTAH

Weber County

Aultorest Memorial Park Historic District, 836 36th St., Ogden, SG100008813

VIRGINIA

Southampton County

Rotherwood, 5410 Southhampton Pkwy., Capron, SG100008835

WEST VIRGINIA

Calhoun County

Calhoun County High School, 101-103 School St., Grantsville, SG100008819

Jefferson County

Osbourn, James, Farm, 1901 Trough Rd., Sheperdstown vicinity, SG100008820

Kanawha County

Tiskelwah School, 600 Florida St., Charleston, SG100008821

Ohio County

Dimmeydale Historic District, Bounded by Cyprus Ave., Wheeling Cr., Veron Ave., and the alley just east of Greenwood Ave., Wheeling, SG100008822

Pocahontas County

Huntersville Old County Jail, Barlow Lane Rd., Huntersville, SG100008823

Putnam County

Eleanor Historic District, Fir, Gum, Beech, Dogwood, Cherry, Chestnut, Cypress, Ivywood, Hemlock, Juniper, Kapok, Locust, Maple, and Nutmeg Sts., Park Rd., Eleanor and Ash Cirs., Roosevelt Blvd., Eleanor, SG100008824

Raleigh County

New Salem Baptist Church, 2197 McAlpin Rd., Tams, SG100008836

Wayne County

Dunlow Norfolk & Western Railway Depot, 63 Old Railroad Rd., Dunlow, SG100008825

Additional documentation has been received for the following resource:

TENNESSEE

Davidson County

Nashville City Cemetery (Additional Documentation), 1001 South 4th Ave., Nashville, AD72001235

Nomination submitted by Federal Preservation Officers:

The State Historic Preservation Officer reviewed the following nomination and responded to the Federal Preservation Officer within 45 days of receipt of the nomination and supports listing the property in the National Register of Historic Places.

NEW JERSEY

Essex County

Thomas Edison National Historical Park, 211 Main St. and 12 Honeysuckle Ave., West Orange, SG100008826

Authority: Section 60.13 of 36 CFR part 60.

Dated: March 8, 2023.
Sherry A. Frear,
Chief, National Register of Historic Places/National Historic Landmarks Program.

[FR Doc. 2023-05546 Filed 3-17-23; 8:45 am]

BILLING CODE 4312-52-P